DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 14608, dated March 26, 2010) is amended to reflect the reorganization of the Office of the Chief of Staff, Office of the Director, Centers for Disease Control and Prevention.

Section C-B, Organization and Functions, is hereby amended as follows: Delete in their entirety the title and functional statements for the Office of the Chief of Staff (CAT) and insert the following:

Office of the Chief of Staff (CAT). The Office of the Chief of Staff (OCS) is accountable for providing strategic advice to the Director and ensuring proactive coordination of agency-wide priorities and policies in direct support of CDC's mission. In carrying out its mission, the OCS: (1) Serves as the principal advisor to the Director, CDC, on internal and external affairs of CDC; (2) convenes key leadership for assessment, management, mitigation options, and resolution of issues and initiatives affecting CDC's priorities and goals; (3) provides information to senior management, as necessary, to make timely strategic and operational decisions; (4) assists in assuring that CDC viewpoints are appropriately represented in the decision making process; (5) provides leadership in the resolution of issues that cross organizational lines; (6) assists in determining CDC objectives and priorities; (7) provides a conduit for background information and updates on controversial or sensitive issues that may be raised by CDC Foundation constituents; (8) serves as one of the Director's primary strategic liaisons with staff, partners and the community at large; and (9) represents the Office of the Director (OD) on any council or CDC peer organizations on management and operational matters.

Office of the Director (CAT1). (1) Directs, manages, and coordinates the activities of the OCS; (2) provides executive support for the Immediate Office of the Director; (3) oversees functions of the Meeting and Advance Team Management Activity, and Budget and Operations Management Activity; and (4) develops goals and objectives, provides leadership, policy formation, oversight, and guidance in program planning and development.

Meeting and Advance Team Management Activity (CAT12). (1) Coordinates and manages the CDC Director's schedule, travel, and oversees the development of briefing materials; (2) manages executive and senior level meetings, inclusive of preparing for and conducting leadership meetings and identifying, triaging, supervising and tracking action items stemming from these leadership meetings; (3) oversees all activities related to the Advisory Committee to the Director and its subcommittees and workgroups; (4) coordinates CDC Foundation requests for the Director and senior leadership appearances at board meetings, special events, speaking engagements, and similar external events; and (5) manages OD-level special events and VIP visits.

Budget and Operations Management Activity (CAT13). (1) Serves as a primary point of contact with the CDC Foundation, specifically for coordination and decision support with other pre-established points of contact across CDC; (2) interfaces on behalf of the OD with CDC budget and operations personnel on cross-cutting functions; (3) coordinates the development, implementation (including spending plan) tracking, and reporting of the OD budget; (4) oversees administrative functions for the OD, including strategic recruitment, personnel actions, training and employee development, space requests and allocation, procurement and distribution of equipment and supplies; (5) manages senior staff within the OD such as staff on details and Intergovernmental Personnel Actions (IPAs); (6) provides an avenue of outreach to the corporate and philanthropic sector about CDC's critical priorities and sponsor/convene in support of the CDC OD; and (7) coordinates approval of all draft proposals for new project partnerships involving CDC and the CDC Foundation.

Division of Executive Secretariat (CATB). (1) Manages controlled correspondence and clearance of non-scientific documents including the flow of decision documents and correspondence for action by the CDC Director; (2) serves as the point of contact with HHS Immediate Office of the Secretary, Executive Secretariat, for status of Secretary's controlled correspondence and review-clear of non-scientific documents; (3) serves as the focal point for the analysis, technical review, and final clearance of controlled correspondence, non-scientific policy documents and memoranda of understanding/agreement that require approval from the CDC Director and senior leadership, and for a wide variety of documents that require the approval of various officials within HHS; (4) ensures controlled correspondence responses and reports reflect CDC/ATSDR's priorities and positions on critical public health issues; (5) maintains all official records relating to the decisions and official actions of the Director, CDC; (6) manages the electronic signature of the Director and other OD executives; (7) coordinates the use of the official CDC/ATSDR controlled correspondence tracking system throughout CDC; (8) ensures consistent application of CDC correspondence standards and styles; (9) ensures agency training and communication updates on the controlled correspondence; and (10) coordinates Inspector General and General Accountability Office audit and evaluation engagements related to CDC/ATSDR.

Division of Issues Management, Analysis and Coordination (CATC). (1) Identifies and triages issues across the Office of the Director in collaboration with agency leadership to ensure efficient responses to the Director's priority issues, and helps position CDC to take advantage of emerging opportunities; (2) supports key leadership in assessment, management, mitigation options, and resolution of issues and initiatives affecting CDC's priorities and goals; (3) establishes an environmental scanning system and network throughout CDC to identify urgent and high risk issues and opportunities related to the Director's priorities; (4) convenes teams to assess, analyze, manage and provide mitigation options and resolution of risks; (5) cultivates strong vertical and horizontal relationships to facilitate effective issues management within OD, with the Centers/Institute/Offices (CIOs) and with HHS; (6) communicates findings and status of current and ongoing issues, trends and opportunities to senior leadership, CIOs and I-IHS through formal advisories, alerts and briefings on key agency issues; (7) works in collaboration with other OD offices to build issues management capacity throughout the agency through training and networking with CIO leadership and staff; (8) provides integrated policy analysis and strategic consultation to the Director, CDC and senior leadership on major issues affecting CDC; (9) liaises with the HHS Office of the Secretary as appropriate on critical issues on behalf of the Chief of Staff, (10) provides a forum for OD offices for discussion and decision-making on policy related issues and Director priorities; (11) provides leadership in identifying regulatory priorities and supports development of regulations for the Department; (12) tracks and coordinates review of clearance of regulations under development and serves as CDC's point of contact for the Federal Document Management System; (13) develops and distributes leadership reports, including the Secretary's 90-Day Forecast report, the Weekly Cabinet Report and weekly situation reports; and (14) manages internal communication for the OCS.

Dated: April 19, 2010.
William P. Nichols,
Chief Operating Officer, Centers for Disease Control and Prevention.

[FR Doc. 2010-9803 Filed 4-27-10; 8:45 am]

BILLING CODE 4163-18-M